DEPARTMENT OF JUSTICE

Notice of Lodging Consent Decree Under the Clean Air Act

Pursuant to 28 CFR 50.7, notice is hereby given that, on August 12, 2008, a proposed Consent Decree in United States v. Salt River Project Agricultural Improvement and Power District [“SRP”], Civil Action No. 2:08-cv-1479-JAT (D. Ariz.), was lodged with the United States District Court for the District of Arizona. The Consent Decree addresses alleged violations of the Clean Air Act, 42 U.S.C. 7401-7671 et seq., and state and federal implementing regulations, which occurred at Units 1 and 2 of the Coronado Generating Station, a coal-fired power plant owned and operated by SRP in St. Johns, Arizona. The alleged violations arise from the construction of modifications to the power plant without obtaining appropriate permits under the Prevention of Significant Deterioration provisions of the Clean Air Act, 42 U.S.C. 7475, and Title V of the Act, 42 U.S.C. 7661 et seq., and without installing and applying best available control technology at the plant to control emissions of various air pollutants.

The proposed Consent Decree would resolve the claims alleged in the Complaint filed in this matter in exchange for SRP's commitment to perform injunctive relief including: (1) Installation of appropriate pollution control technology to control emissions of nitrogen oxides (NOX), sulfur dioxide (SO2), and particulate matter (PM)—including flue gas desulfurization devices to control SO2 on Units 1 and 2 at the Coronado Station and installation of selective catalytic reduction to control NOX on one of the two units; (2) meet specified emission rates or removal efficiencies for SO2, NOX, and PM; (3) comply with a plant-wide emissions cap for NOX; and (4) perform $4 million worth of projects to mitigate the alleged effects of its past violations. The proposed Consent Decree also requires SRP to pay a $950,000 civil penalty.

The Department of Justice will receive comments relating to the proposed Consent Decree for period of thirty (30) days from the date of this publication. Comments should be addressed to the Assistant Attorney General, Environment and Natural Resources Division, and mailed either electronically to pubcomment-ees.enrd@usdoj.gov or in hard copy to the United States Department of Justice, P.O. Box 7611, Ben Franklin Station, Washington, DC 20044-7611. Comments should refer to United States v. Salt River Project Agricultural Improvement and Power District, Civil Action No. 2:08-cv-1479-JAT (D.Ariz.) and D.J. Ref. No. 90-5-2-1-09174.

The Consent Decree may be examined at: (1) The offices of the United States Attorney, Two Renaissance Square, 40 N. Central Avenue, Suite 1200, Phoenix, AZ 85004-4408; and (2) the offices of the U.S. Environmental Protection Agency, Region 9, 75 Hawthorne St., San Francisco, CA 94105. During the public comment period, the Consent Decree may also be examined on the following Web site: http://www.usdoj.gov/enrd/Consent_Decrees.html. A copy of the Consent Decree may also be obtained by mail from the Department of Justice Consent Decree Library, P.O. Box 7611, Washington, DC 20044-7611 or by faxing or e-mailing a request to Tonia Fleetwood (tonia.fleetwood@usdoj.gov), fax no. (202) 514-0097, phone confirmation number (202) 514-1547. In requesting a copy from the Consent Decree Library, please enclose a check in the amount of $18.00 (72 pages at 25 cents per page reproduction costs) payable to the U.S. Treasury.

Maureen M. Katz,
Assistant Chief, Environmental Enforcement Section, Environment and Natural Resources Division.

[FR Doc. E8-18925 Filed 8-14-08; 8:45 am]

BILLING CODE 4410-15-P